DEPARTMENT OF COMMERCE

International Trade Administration

North American Free Trade Agreement (NAFTA), Article 1904; Binational Panel Review: Notice of Panel Decision

AGENCY: United States Section, NAFTA Secretariat, International Trade Administration, Department of Commerce.

ACTION: Notice of panel decision.

SUMMARY: On June 27, 2022, the Binational Panel issued its Decision in the matter of Light-Walled Rectangular Pipe and Tube from Mexico; Final Results of Antidumping Duty Administrative Review (Secretariat File Number: USA-MEX-2019-1904-01). The Binational Panel affirmed the Department of Commerce's Final Determination.

FOR FURTHER INFORMATION CONTACT: Vidya Desai, United States Secretary, NAFTA Secretariat, Room 2061, 1401 Constitution Avenue NW, Washington, DC 20230, (202) 482-5438.

SUPPLEMENTARY INFORMATION: Chapter 19 of Article 1904 of NAFTA provides a dispute settlement mechanism involving trade remedy determinations issued by the Government of the United States, the Government of Canada, and the Government of Mexico. Following a Request for Panel Review, a Binational Panel is composed to provide judicial review of the trade remedy determination being challenged and then issue a binding Panel Decision. There are established Rules of Procedure for Article 1904 Binational Panel Reviews, which were adopted by the three governments for panels requested pursuant to Article 1904(2) of NAFTA. The notice of this Binational Panel's Decision is being published pursuant to Rule 70. For the complete Rules, please see https://can-mex-usa-sec.org/secretariat/agreement-accord-acuerdo/nafta-alena-tlcan/rules-regles-reglas/article-article-articulo_1904.aspx?lang=eng.

Dated: June 28, 2022.
Vidya Desai,
U.S. Secretary, NAFTA Secretariat.

[FR Doc. 2022-14174 Filed 7-1-22; 8:45 am]

BILLING CODE 3510-GT-P